DEPARTMENT OF COMMERCE

International Trade Administration

[C-570-915]

Light-Walled Rectangular Pipe and Tube From the People's Republic of China: Notice of Amended Affirmative Preliminary Countervailing Duty Determination

AGENCY: Import Administration, International Trade Administration, Department of Commerce.

SUMMARY: The purpose of this amended affirmative preliminary determination is to correct a significant ministerial error in the preliminary determination, published on November 30, 2007, that countervailable subsidies are being provided to producers and exporters of light-walled rectangular pipe and tube from the People's Republic of China.

EFFECTIVE DATE: December 27, 2007.

FOR FURTHER INFORMATION CONTACT: Damian Felton or Shane Subler, AD/CVD Operations, Office 1, Import Administration, International Trade Administration, U.S. Department of Commerce, 14th Street and Constitution Avenue, NW., Washington, DC 20230; telephone: (202) 482-0133 and (202) 482-0189, respectively.

SUPPLEMENTARY INFORMATION:

Background

We initiated a countervailing duty investigation on light-walled rectangular pipe and tube (“LWRP”) from the People's Republic of China (“PRC”). See Notice of Initiation of Countervailing Duty Investigation: Light-Walled Rectangular Pipe and Tube from the People's Republic of China, 72 FR 40281 (July 24, 2007). On November 30, 2007, we published our preliminary determination stating that countervailable subsidies are being provided to producers and exporters of LWRP from the PRC. See Light-walled Rectangular Pipe and Tube from the People's Republic of China: Preliminary Affirmative Countervailing Duty Determination and Alignment of Final Countervailing Duty Determination with Final Antidumping Duty Determination, 72 FR 67703 (November 30, 2007) (“Preliminary Determination”). On December 3, 2007, Zhangjiagang Zhongyuan Pipe-making Co., Ltd. (“ZZPC”) filed a timely allegation of a significant ministerial error contained in the Department's Preliminary Determination. After reviewing the allegation, we have determined that the Preliminary Determination included a significant ministerial error. Therefore, in accordance with 19 CFR 351.224(e), we have made changes, as described below, to the Preliminary Determination.

Scope of the Investigation

The merchandise that is the subject of this investigation is certain welded carbon-quality light-walled steel pipe and tube, of rectangular (including square) cross section (LWR), having a wall thickness of less than 4mm.

The term carbon-quality steel includes both carbon steel and alloy steel which contains only small amounts of alloying elements. Specifically, the term carbon-quality includes products in which none of the elements listed below exceeds the quantity by weight respectively indicated: 1.80 percent of manganese, or 2.25 percent of silicon, or 1.00 percent of copper, or 0.50 percent of aluminum, or 1.25 percent of chromium, or 0.30 percent of cobalt, or 0.40 percent of lead, or 1.25 percent of nickel, or 0.30 percent of tungsten, or 0.10 percent of molybdenum, or 0.10 percent of niobium, or 0.15 percent vanadium, or 0.15 percent of zirconium. The description of carbon-quality is intended to identify carbon-quality products within the scope. The welded carbon-quality rectangular pipe and tube subject to this investigation is currently classified under the Harmonized Tariff Schedule of the United States (“HTSUS”) subheadings 7306.61.50.00 and 7306.61.70.60. While HTSUS subheadings are provided for convenience and customs purposes, our written description of the scope of this investigation is dispositive.

Analysis of Alleged Significant Ministerial Error

A ministerial error is defined in 19 CFR 351.224(f) as “an error in addition, subtraction, or other arithmetic function, clerical error resulting from inaccurate copying, duplication, or the like, and any other similar type of unintentional error which the Secretary considers ministerial.” With respect to preliminary determinations, 19 CFR 351.224(e) provides that the Department “will analyze any comments received and, if appropriate, correct any significant ministerial error by amending the preliminary determination * * *” A significant ministerial error is defined as an error, the correction of which, singly or in combination with other errors, would result in (1) a change of at least five absolute percentage points in, but not less than 25 percent of, the countervailable subsidy rate calculated in the original (erroneous) preliminary determination; or (2) a difference between a countervailable subsidy rate of zero (or de minimis) and a countervailable subsidy rate of greater than de minimis or vice versa. See 19 CFR 351.224(g). We have determined that the Preliminary Determination contained a “significant” ministerial error with respect to ZZPC. See Memorandum to Susan Kuhbach, Director, Office 1, AD/CVD Operations, entitled, “Ministerial Error Allegation” (December 19, 2007) for the analysis performed. This memorandum is on file in the Department's Central Records Unit in Room B-099 of the main Department building.

Amended Preliminary Determination

Because the error alleged by ZZPC regarding the countervailable subsidy rate calculation for ZZPC was significant, we have amended the preliminary countervailing duty rate calculation for ZZPC, pursuant to 19 CFR 351.224(e). In addition, the correction to ZZPC's rate also affects the rates established for Qingdao Xiangxing Steel Pipe Co. (“Qingdao”) and the all-others rate. The preliminary net countervailable subsidy rate for Kunshan Lets Win Steel Machinery Co., Ltd. (“Lets Win”) remains unchanged from the Preliminary Determination at 0.27 percent. As a result of corrections of ministerial errors, the amended preliminary net countervailable subsidy rates are as follows:

Exporter/manufacturer | Original subsidy rate | Amended subsidy rate
Kunshan Lets Win Steel Machinery Co., Ltd | 0.27 | 0.27.
Qingdao Xiangxing Steel Pipe Co | 77.85 | 45.6 percent.
Zhangjiagang Zhongyuan Pipe-making Co., Ltd., Jiangsu Qiyuan Group Co, Ltd | 2.99 | 0.90 percent.
All Others | 2.99 | 15.59 percent.

Suspension of Liquidation

The collection of bonds or cash deposits and suspension of liquidation will be revised, in accordance with section 703(d) and (f) of the Act. Specifically, we will instruct U.S. Customs and Border Protection (“CBP”) to continue to suspend liquidation of all entries of LWRP from the PRC on or after the date of publication of this notice in the Federal Register. However, neither the suspension of liquidation nor the requirement for a cash deposit or bond will apply to merchandise produced and exported by Lets Win or ZZPC because the Department has preliminarily determined that Lets Win and ZZPC received de minimis subsidies.

International Trade Commission Notification

In accordance with section 703(f) of the Act, we have notified the U.S. International Trade Commission (“ITC”) of our amended affirmative preliminary determination. If our final countervailing duty determination is affirmative, the ITC will determine whether the imports covered by that determination are materially injuring, or threatening material injury to, the U.S. industry.

This determination is issued and published pursuant to sections 703(f) and 777(i)(1) of the Act.

Dated: December 19, 2007.
David M. Spooner,
Assistant Secretary for Import Administration.

[FR Doc. E7-25083 Filed 12-26-07; 8:45 am]

BILLING CODE 3510-DS-P